DEPARTMENT OF ENERGY

Federal Energy Regulatory Commission

Combined Notice of Filings #2

Take notice that the Commission received the following electric rate filings:

Docket Numbers: ER10-1819-041; ER10-1817-031; ER10-1818-038; ER10-1820-044.

Applicants: Northern States Power Company, a Wisconsin corporation, Public Service Company of Colorado, Southwestern Public Service Company, Northern States Power Company, a Minnesota corporation.

Description: Notice of Change in Status of Northern States Power Company, a Minnesota corporation, et al.

Filed Date: 4/30/24.

Accession Number: 20240430-5623.

Comment Date: 5 p.m. ET 5/21/24.

Docket Numbers: ER10-2249-010.

Applicants: Portland General Electric Company.

Description: Notice of Change in Status of Portland General Electric Company.

Filed Date: 4/30/24.

Accession Number: 20240430-5630.

Comment Date: 5 p.m. ET 5/21/24.

Docket Numbers: ER10-3069-011; ER10-3070-011.

Applicants: Alcoa Power Marketing LLC, Alcoa Power Generating Inc.

Description: Triennial Market Power Analysis and Notice of Non-Material Change in Status for Central Region of Alcoa Power Generating Inc., et al.

Filed Date: 4/30/24.

Accession Number: 20240430-5625.

Comment Date: 5 p.m. ET 7/1/24.

Docket Numbers: ER11-4051-006; ER14-1656-014.

Applicants: CSOLAR IV West, LLC,CSOLAR IV South, LLC.

Description: Notice of Change in Status of CSOLAR IV South, LLC, et al.

Filed Date: 4/30/24.

Accession Number: 20240430-5618.

Comment Date: 5 p.m. ET 5/21/24.

Docket Numbers: ER17-1531-011; ER13-342-019; ER13-343-015; ER22-729-003; ER22-784-005; ER22-2580-004.

Applicants: CPV Three Rivers, LLC, CPV Maple Hill Solar, LLC, CPV Retail Energy LP, CPV Maryland, LLC, CPV Shore, LLC, CPV Fairview, LLC.

Description: Notice of Change in Status of CPV Fairview, LLC, et al.

Filed Date: 4/30/24.

Accession Number: 20240430-5633.

Comment Date: 5 p.m. ET 5/21/24.

Docket Numbers: ER18-53-004; ER10-3310-016; ER10-2757-010; ER23-283-002; ER11-3051-006.

Applicants: CP Energy Marketing (US) Inc., Arlington Valley, LLC, New Harquahala Generating Company, LLC, CXA La Paloma, LLC, Macho Springs Power I, LLC.

Description: Notice of Change in Status of CXA La Paloma, LLC, et al.

Filed Date: 4/30/24.

Accession Number: 20240430-5632.

Comment Date: 5 p.m. ET 5/21/24.

Docket Numbers: ER18-397-003; ER18-398-003.

Applicants: SunE Beacon Site 5 LLC, SunE Beacon Site 2 LLC.

Description: Notice of Non-Material Change in Status of SunE Beacon Site 2 LLC, et al.

Filed Date: 4/30/24.

Accession Number: 20240430-5628.

Comment Date: 5 p.m. ET 5/21/24.

Docket Numbers: ER21-573-004; ER21-574-004; ER21-575-004.

Applicants: Lanyard Power Marketing, LLC, Dickerson Power, LLC, Chalk Point Power, LLC.

Description: Notice of Change in Status of Chalk Point Power, LLC, et al.

Filed Date: 4/30/24.

Accession Number: 20240430-5620.

Comment Date: 5 p.m. ET 5/21/24.

Docket Numbers: ER21-1755-008; ER23-1642-005; ER14-2498-016; ER14-2500-016.

Applicants: Newark Energy Center, LLC, EIF Newark, LLC, NE Renewable Power, LLC, Hartree Partners, LP.

Description: Notice of Change in Status of Hartree Partners, LP, et al.

Filed Date: 4/30/24.

Accession Number: 20240430-5629.

Comment Date: 5 p.m. ET 5/21/24.

Docket Numbers: ER22-381-011; ER10-1781-007; ER19-2626-009; ER21-714-010; ER22-399-005.

Applicants: Meadow Lake Solar Park LLC, Indiana Crossroads Wind Farm LLC, Rosewater Wind Farm LLC, Northern Indiana Public Service Company, Dunns Bridge Solar Center, LLC.

Description: Notice of Non-Material Change in Status of Dunns Bridge Solar Center, LLC, et al.

Filed Date: 4/30/24.

Accession Number: 20240430-5635.

Comment Date: 5 p.m. ET 5/21/24.

Docket Numbers: ER22-1777-003.

Applicants: Madison Fields Solar Project, LLC.

Description: Notice of Change in Status of Madison Fields Solar Project, LLC.

Filed Date: 4/30/24.

Accession Number: 20240430-5624.

Comment Date: 5 p.m. ET 5/21/24.

Docket Numbers: ER24-1906-000.

Applicants: Cheyenne Light, Fuel and Power Company.

Description: Compliance filing: Order 2023 Open Access Transmission Tariff Revisions to be effective 7/1/2024.

Filed Date: 5/1/24.

Accession Number: 20240501-5211.

Comment Date: 5 p.m. ET 5/22/24.

Docket Numbers: ER24-1907-000.

Applicants: Michigan Electric Transmission Company, LLC.

Description: 205(d) Rate Filing: Filing of a Transition Services Agreement—Rate Schedule No. 83 to be effective 7/1/2024.

Filed Date: 5/1/24.

Accession Number: 20240501-5236.

Comment Date: 5 p.m. ET 5/22/24.

Docket Numbers: ER24-1908-000.

Applicants: Soldier Creek Wind, LLC.

Description: 205(d) Rate Filing: Amended Shared Interconnection Facilities Co-Owners Agreement to be effective 5/2/2024.

Filed Date: 5/1/24.

Accession Number: 20240501-5245.

Comment Date: 5 p.m. ET 5/22/24.

Docket Numbers: ER24-1909-000.

Applicants: Southwest Power Pool, Inc.

Description: 205(d) Rate Filing: 3825R1 Prairie Hills Wind GIA to be effective 4/17/2024.

Filed Date: 5/1/24.

Accession Number: 20240501-5286.

Comment Date: 5 p.m. ET 5/22/24.

Docket Numbers: ER24-1910-000.

Applicants: AEP Texas Inc.

Description: 205(d) Rate Filing: AEPTX-Charter Oak Solar Generation Interconnection Agreement to be effective 4/5/2024.

Filed Date: 5/1/24.

Accession Number: 20240501-5288.

Comment Date: 5 p.m. ET 5/22/24.

Docket Numbers: ER24-1911-000.

Applicants: MidAmerican Central California Transco, LLC.

Description: Petition for Limited Waiver of MidAmerican Central California Transco, LLC.

Filed Date: 4/30/24.

Accession Number: 20240430-5627.

Comment Date: 5 p.m. ET 5/21/24.

Docket Numbers: ER24-1912-000.

Applicants: Public Service Company of New Mexico.

Description: 205(d) Rate Filing: NTUA Pseudo-Tie Coordination Agreement—RS 195 to be effective 5/1/2024.

Filed Date: 5/1/24.

Accession Number: 20240501-5339.

Comment Date: 5 p.m. ET 5/22/24.

Docket Numbers: ER24-1913-000.

Applicants: Bartonsville Energy Facility, LLC.

Description: 205(d) Rate Filing: Revised Market-Based Rate Tariff Filing to be effective 7/1/2024.

Filed Date: 5/1/24.

Accession Number: 20240501-5341.

Comment Date: 5 p.m. ET 5/22/24.

Docket Numbers: ER24-1914-000.

Applicants: Idaho Power Company.

Description: 205(d) Rate Filing: SA #521—Kuna Storage LGIA to be effective 1/4/2024.

Filed Date: 5/1/24.

Accession Number: 20240501-5344.

Comment Date: 5 p.m. ET 5/22/24.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: May 1, 2024.
Debbie-Anne A. Reese,
Acting Secretary.

[FR Doc. 2024-09983 Filed 5-7-24; 8:45 am]

BILLING CODE 6717-01-P